DEPARTMENT OF ENERGY

Federal Energy Regulatory Commission

Combined Notice of Filings #1

Take notice that the Commission received the following electric corporate filings:

Docket Numbers: EC15-146-000.

Applicants: NRG Yield Operating LLC, Desert Sunlight 250, LLC, Desert Sunlight 300, LLC.

Description: Joint Application for Approval under Section 203 of the Federal Power Act and Request for Expedited Approval of NRG Yield Operating LLC, et al.

Filed Date: 5/22/15.

Accession Number: 20150522-5471.

Comments Due: 5 p.m. ET 6/12/15.

Take notice that the Commission received the following electric rate filings:

Docket Numbers: ER10-1484-010.

Applicants: Shell Energy North America (US), L.P.

Description: Supplement to December 29, 2014 Updated Market Power Analysis for the Southeast Region of Shell Energy North America (US), L.P.

Filed Date: 5/26/15.

Accession Number: 20150526-5150.

Comments Due: 5 p.m. ET 6/9/15.

Docket Numbers: ER13-1936-001.

Applicants: PJM Interconnection, L.L.C.

Description: Compliance filing per 35: Compliance Filing per 1/23/15 Order in Docket No. ER13-1936 to be effective 1/1/2015.

Filed Date: 5/26/15.

Accession Number: 20150526-5181.

Comments Due: 5 p.m. ET 6/16/15.

Docket Numbers: ER15-1456-001.

Applicants: Beaver Falls, L.L.C.

Description: Tariff Amendment per 35.17(b): Amended Notice of Succession to be effective 3/6/2015.

Filed Date: 5/26/15.

Accession Number: 20150526-5157.

Comments Due: 5 p.m. ET 6/16/15.

Docket Numbers: ER15-1457-001.

Applicants: Syracuse, L.L.C.

Description: Tariff Amendment per 35.17(b): Amended Notice of Succession to be effective 3/6/2015.

Filed Date: 5/26/15.

Accession Number: 20150526-5164.

Comments Due: 5 p.m. ET 6/16/15.

Docket Numbers: ER15-1543-001.

Applicants: Wisconsin Public Service Corporation.

Description: Tariff Amendment per 35.17(b): Revised Local Balancing Authority Area Agreement Between WPSC an to be effective 7/25/2015.

Filed Date: 5/26/15.

Accession Number: 20150526-5160.

Comments Due: 5 p.m. ET 6/16/15.

Docket Numbers: ER15-1776-000.

Applicants: Midcontinent Independent System Operator, Inc.

Description: § 205(d) rate filing per 35.13(a)(2)(iii): 2015-05-22 Pricing under Emergency to be effective 12/31/9998.

Filed Date: 5/22/15.

Accession Number: 20150522-5376.

Comments Due: 5 p.m. ET 6/12/15.

Docket Numbers: ER15-1777-000.

Applicants: Southwest Power Pool, Inc.

Description: § 205(d) rate filing per 35.13(a)(2)(iii): Heartland Consumers Power District Formula Rate to be effective 10/1/2015.

Filed Date: 5/22/15.

Accession Number: 20150522-5377.

Comments Due: 5 p.m. ET 6/12/15.

Take notice that the Commission received the following electric securities filings:

Docket Numbers: ES15-30-000.

Applicants: The United Illuminating Company.

Description: Supplemental Exhibits to May 8, 2015 Application requesting authorization to issue short-term debt securities in an amount not to exceed $400 million of The United Illuminating Company.

Filed Date: 5/22/15.

Accession Number: 20150522-5117.

Comments Due: 5 p.m. ET 6/1/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 26, 2015.
Nathaniel J. Davis, Sr.,
Deputy Secretary.

[FR Doc. 2015-13077 Filed 5-29-15; 8:45 am]

BILLING CODE 6717-01-P